DEPARTMENT OF ENERGY

Federal Energy Regulatory Commission

[ Docket No. EL13-59-000; QF11-178-002]

Kootenai Electric Cooperative, Inc.; Notice of Petition for Declaratory Order and Petition for Enforcement

Take notice that on April 16, 2013, pursuant to section 210(h)(2) of the Public Utility Regulatory Policies Act of 1978 (PURPA), 16 U.S.C. 824a-3(h) (2011) and Rule 207 of the Rules of Practice and Procedure of the Federal Energy Regulatory Commission (Commission), 18 CFR 385.207 (2012), Kootenai Electric Cooperative, Inc. (Kootenai) filed a petition for declaratory order and petition for enforcement, requesting the Commission to take prompt action to correct the Oregon Public Utility Commission's (OPUC) February 26, 2013 Order ¹ concerning sale of electric output from Kootenai's Fighting Creek Landfill Gas Station and to make the determination that the OPUC order violates the Commission's August 31, 2013 order (August 31 Order).²

¹ Kootenai Electric Cooperative Inc. v. Idaho Power Co., OPUC Docket No. UM 1572, Order No. 13-062 (Feb. 26, 2013) (hereinafter “OPUC Order”). The OPUC Order is attached as Exhibit 1.

² Avista Corp., 140 FERC ¶ 61,165 (2012).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on May 7, 2013.

Dated: April 18, 2013.
Kimberly D. Bose,
Secretary.

[FR Doc. 2013-09758 Filed 4-24-13; 8:45 am]

BILLING CODE 6717-01-P